DEPARTMENT OF COMMERCE

National Telecommunications and Information Administration

[Docket No. 180124068-8068-01]

RIN 0660-XC041

International Internet Policy Priorities

AGENCY: National Telecommunications and Information Administration, U.S. Department of Commerce.

ACTION: Notice; Extension of comment period.

SUMMARY: In response to requests for additional time, the Department of Commerce is extending the closing deadline for submitting comments to a request for public comments entitled “International Internet Policy Priorities” published in the Federal Register on June 5, 2018. Through this notice, the Department extends the comment period to July 17, 2018.

DATES: Comments are due on July 17, 2018, at 5:00 p.m. Eastern Daylight Time (EDT).

ADDRESSES: Written comments may be submitted by email to iipp2018@ntia.doc.gov. Comments submitted by email should be machine-readable and should not be copy-protected. Written comments also may be submitted by mail to the National Telecommunications and Information Administration, U.S. Department of Commerce, 1401 Constitution Avenue NW, Room 4725, Attn: Fiona Alexander, Washington, DC 20230.

FOR FURTHER INFORMATION CONTACT: Fiona Alexander, National Telecommunications and Information Administration, U.S. Department of Commerce, 1401 Constitution Avenue NW, Room 4706, Washington, DC 20230; telephone (202) 482-1866; email falexander@ntia.doc.gov. Please direct media inquiries to NTIA's Office of Public Affairs, (202) 482-7002, or at press@ntia.doc.gov.

SUPPLEMENTARY INFORMATION: On June 5, 2018, NTIA published a Notice of Inquiry seeking comments and recommendations from all interested stakeholders on its international Internet policy priorities for 2018 and beyond. See NTIA, Notice of Inquiry, International Internet Policy Priorities, 83 FR 26036 (June 5, 2018). These comments will help inform NTIA to identify priority issues and help NTIA effectively leverage its resources and expertise to address those issues. The original deadline for submission of comments was July 2, 2018. With this notice, NTIA announces the extension of the closing deadline for submission of comments until July 17, 2018, at 5:00 p.m. EDT. All other instructions to commenters provided in the original notice remain unchanged.

Dated: June 7, 2018.
Kathy Smith,
Chief Counsel, National Telecommunications and Information Administration.

[FR Doc. 2018-12613 Filed 6-11-18; 8:45 am]

BILLING CODE 3510-60-P